DEPARTMENT OF EDUCATION

[CFDA No. 84.357]

Reading First

AGENCY: Office of Elementary and Secondary Education, Department of Education.

ACTION: Notice announcing application deadline.

SUMMARY: Under the Reading First program, we award Targeted Assistance Grants to State educational agencies (SEAs) that demonstrate an increase in student achievement in schools and districts participating in the Reading First program.

As discussed elsewhere in this notice, the data that States must submit to demonstrate an increase in student achievement are the same data that States must submit in their annual performance reports for their Reading First State grants. We are therefore permitting States to apply for Targeted Assistance Grants by submitting their annual Reading First performance report. No separate application is required. This notice establishes July 30, 2005, as the deadline date for submitting the annual performance report to apply for a Targeted Assistance Grant.

DATES: Application Deadline: July 30, 2005.

SUPPLEMENTARY INFORMATION:

Which SEAs Are Eligible for a Targeted Assistance Grant?

An SEA is eligible for a Targeted Assistance Grant if it can show an increase in student achievement over two consecutive years. Therefore, an SEA's eligibility for this grant begins when the State has three years of student achievement data. This may include either—

(a) Student data representing three years of school-level implementation of the Reading First program; or

(b) Student data representing two years of school-level implementation of the Reading First program, along with baseline data from the year preceding implementation.

Specifically, the SEA's application must demonstrate that an increasing percentage of third-grade students in the schools served by the LEAs that receive Reading First funds are reaching the proficient level in reading for each of two consecutive years in the following categories—

(a) Economically disadvantaged students;

(b) Students from each major racial and ethnic group;

(c) Students with disabilities; and

(d) Students with limited English proficiency.

The SEA must also demonstrate in its application that for each of those two consecutive years, the schools receiving Reading First funds are improving the reading skills of students in grades 1, 2, and 3 based on instructional reading assessments, and that increasing percentages of students in the State are reading at grade level or above.

Who Will Review State Applications for Targeted Assistance Grants?

The expert review panel convened to evaluate State applications for Reading First State Grants will also review applications for Targeted Assistance Grants to determine whether the data the SEA submits demonstrate an increase in student achievement in schools and districts participating in the Reading First program.

How Is the Targeted Assistance Grant Application Submitted?

The data that States must submit to demonstrate an increase in student achievement are the same data States must submit in their annual performance reports. Accordingly, the annual performance report will serve as the Targeted Assistance Grant application and States may apply for a Targeted Assistance Grant by submitting their annual performance report. The annual performance report is available and submitted electronically at: https://www.readingfirstapr.org. States should indicate that they want their data reviewed in consideration for a Targeted Assistance Grant by checking the appropriate box on the annual performance report and providing the assurances and information requested. In order to be considered for a Targeted Assistance Grant, the annual performance report must be submitted by July 30, 2005. Only those States that want to be considered for a Targeted Assistance Grant this year must submit their annual performance report by this date. All other States must submit their reports no later than November 30, 2005.

How Will Targeted Assistance Grants Be Awarded to Eligible States?

The Department will award the grants to eligible SEAs based on the information provided in the annual performance report and a statutory formula for determining award amounts. The statutory formula is calculated based on the proportion of children aged 5 to 17 who reside within the State and are from families with incomes below the poverty line, compared to the number of children aged 5 to 17 from families with incomes below the poverty line who reside in all States with approved Targeted Assistance Grant applications for that year. Poverty data are drawn from the most recent fiscal year for which satisfactory data are available.

FOR FURTHER INFORMATION CONTACT: Sandi Jacobs, telephone: (202) 401-4877 or by e-mail: sandi.jacobs@ed.gov.

If you use a telecommunications device for the deaf (TDD), you may call the Federal Relay Service (FRS) at 1-800-877-8339.

Individuals with disabilities may obtain this notice in an alternative format (e.g., Braille, large print, audiotape, or computer diskette) on request to the contact person listed under FOR FURTHER INFORMATION CONTACT. Electronic Access To This Document: You may view this document, as well as other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll-free, at 1-888-293-6498; or in the Washington DC, area at (202) 512-1530.

Note: The official version of this document is the document published in the Federal Register. Free Internet access to the official version of the Federal Register and the Code of Federal Regulations is available on GPO Access at: http://www.gpoaccess.gov/nara/index.html.

Program Authority: 20 U.S.C. 6364.

Dated: June 23, 2005.
Raymond Simon,
Assistant Secretary for Elementary and Secondary Education.

[FR Doc. 05-12855 Filed 6-28-05; 8:45 am]

BILLING CODE 4001-01-P